DEPARTMENT OF TRANSPORTATION

Federal Railroad Administration

[Docket No. FRA-2012-0033]

Notice of Intent To Grant a Buy America Waiver To the Illinois Department of Transportation for the Use of Sure Close Self-Closing Force Adjustable Gate Hinges

AGENCY: Federal Railroad Administration (FRA), United States Department of Transportation (DOT).

ACTION: Notice of intent to grant Buy America waiver.

SUMMARY: FRA is issuing this notice to advise the public that it intends to grant the Illinois Department of Transportation (IDOT) a waiver from FRA's Buy America requirement for the use of 250 Sure Close gate hinges, which are manufactured in Italy. FRA believes a waiver is appropriate because, despite IDOT's best efforts to develop a domestic source for these hinges, domestically-produced gate hinges for pedestrian crossings meeting IDOT's safety specifications and schedule needs remain unavailable in the United States.

DATES: Written comments on FRA's determination to grant IDOT's Buy America waiver request should be provided to the FRA on or before December 7, 2015.

ADDRESSES: Please submit your comments by one of the following means, identifying your submissions by docket number FRA-2012-0033. All electronic submissions must be made to the U.S. Government electronic site at http://www.regulations.gov. Commenters should follow the instructions below for mailed and hand-delivered comments.

(1) Web site: http://www.regulations.gov. Follow the instructions for submitting comments on the U.S. Government electronic docket site;

(2) Fax: (202) 493-2251;

(3) Mail: U.S. Department of Transportation, 1200 New Jersey Avenue SE., Docket Operations, M-30, Room W12-140, Washington, DC, 20590-0001; or

(4) Hand Delivery: Room W12-140 on the first floor of the West Building, 1200 New Jersey Avenue SE., Washington, DC, 20590, between 9 a.m. and 5 p.m., Monday through Friday, except Federal holidays.

Instructions: All submissions must reference the “Federal Railroad Administration” and include docket number FRA-2012-0033. Due to security procedures in effect since October 2001, mail received through the U.S. Postal Service may be subject to delays. Parties making submissions responsive to this notice should consider using an express mail firm to ensure the prompt filing of any submissions not filed electronically or by hand. Note that all submissions received, including any personal information therein, will be posted without change or alteration to http://www.regulations.gov. For more information, you may review DOT's complete Privacy Act Statement in the Federal Register published on April 11, 2000 (65 FR 19477), or visit http://www.regulations.gov.

FOR FURTHER INFORMATION CONTACT: Mr. John Johnson, Attorney-Advisor, FRA Office of Chief Counsel, 1200 New Jersey Avenue SE., Mail Stop 25, Washington, DC 20590, (202) 493-0078, John.Johnson@dot.gov.

SUPPLEMENTARY INFORMATION:

FRA is issuing this notice to advise the public that it intends to grant the Illinois Department of Transportation (IDOT) a waiver from FRA's Buy America requirement for the use of 250 Sure Close gate hinges, which are manufactured in Italy. Self-closing, force adjustable gate hinges are one component of the larger construction project to install pedestrian swing gates in connection with the Chicago-St. Louis High Speed Rail (HSR) corridor project. The Chicago-St. Louis HSR project is funded by a $1.33 billion grant from FRA. The value of the 250 hinges is approximately $79,000. FRA believes a waiver is appropriate under 49 U.S.C. 24405(a)(2)(B) because, despite IDOT's best efforts to develop a domestic source for these hinges, domestically-produced gate hinges for pedestrian crossings meeting IDOT's safety specifications and schedule needs remain unavailable in the United States.

The letter granting IDOT's request is quoted below:

John Oimoen

Interim Director, Division of Public and Intermodal Transportation

Illinois Department of Transportation

Division of Public and Intermodal Transportation

100 West Randolph Street, Suite 6-600

Chicago, IL 60601

Re: Request for Waiver of Buy America Requirement for Sure Close Gate Hinges

Dear Mr. Oimoen:

This letter responds to your request, dated June 30, 2015, that the Federal Railroad Administration (FRA) grant the Illinois Department of Transportation (IDOT) a waiver from FRA's Buy America provision, at 49 U.S.C. 24405(a)(1), for one component of pedestrian swing gates IDOT needs to purchase using FRA grant monies. Specifically, your request is based on the Buy America provision (49 U.S.C. 24405(a)) applicable to FRA's High-Speed Intercity Passenger Rail (HSIPR) Program grant ($1.33 billion) to IDOT for the Chicago-St. Louis High Speed Rail (HSR) corridor.

Your waiver request is for the remaining 250 of 600 Sure Close gate hinges needed for the project that D&D Technology, an Italian company, manufactures. In February 2015, FRA granted IDOT a waiver for the initial 350 gate hinges. Because the hinges are manufactured in Italy, IDOT needs a waiver from FRA's Buy America requirement. FRA is granting IDOT's waiver request for the additional 250 Sure Close gate hinges. FRA believes a waiver is again appropriate under 49 U.S.C. 24405(a)(2)(B) because, despite IDOT's best efforts to develop a domestic source for these hinges, domestically-produced gate hinges for pedestrian crossings meeting IDOT's safety specifications and schedule needs remain unavailable in the United States. IDOT needs the remaining 250 gate hinges for its project to remain on schedule.

FRA posted the new request for the 250 gate hinges on its Web site and received no comments. Under 49 U.S.C. 24405(a)(4), FRA is publishing notice of its decision to grant IDOT's waiver request in the Federal Register and provide notice of such finding and an opportunity for public comment after which this waiver will become effective.

Questions about this letter can be directed to, John Johnson, Attorney-Advisor, at john.johnson@dot.gov or (202)493-0078.

Sincerely,

Sarah Feinberg

Acting Administrator

Issued in Washington, DC on November 23, 2015.
Sarah L. Inderbitzin,
Acting Chief Counsel.

[FR Doc. 2015-30205 Filed 11-27-15; 8:45 am]

BILLING CODE 4910-06-P